DEPARTMENT OF HOUSING AND URBAN DEVELOPMENT

[Docket No. FR-7075-N-04]

60-Day Notice of Proposed Information Collection: HUD CDBG Disaster Recovery Outcomes of Renter Households and Affordable Housing; OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 11, 2023.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000; telephone 202-402-5535 (this is not a toll-free number) or email at PaperworkReductionActOffice@hud.gov for a copy of the proposed forms or other available information.

FOR FURTHER INFORMATION CONTACT: Anna Guido, Reports Management Officer, Department of Housing and Urban Development, 451 7th Street SW, Washington, DC 20410; email Anna Guido at Anna.P.Guido@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION:

This notice informs the public that HUD is seeking approval from OMB for the information collection described in Section A.

A. Overview of Information Collection

Title of Information Collection: HUD CDBG Disaster Recovery Outcomes of Renter Households and Affordable Housing.

OMB Approval Number: 2528-Pending.

Type of Request: New data collection.

Form Number: N/A.

Description of the need for the information and proposed use: The Office of Policy Development and Research (PD&R), at the U.S. Department of Housing and Urban Development (HUD), is proposing the collection of information for the HUDRD CDBG Disaster Recovery Outcomes of Renter Households Cooperative Agreement.

The goal of this research is to improve disaster recovery effectiveness for renter households by examining the disaster recovery outcomes of renter households and rental housing stock in places that received Community Development Block Grant-Disaster Recovery grants (CDBG-DR). This research is expected to help the Federal government, states, and communities throughout the United States improve disaster recovery effectiveness for renter households by providing information about how disaster recovery programs funded through CDBG-DR have different impacts on renters and homeowners, and how disasters impact affordable rental housing stock over time. It will further support HUD in providing data and information on disaster recovery outcomes of renter households and changes in rental housing dynamics in areas impacted by disasters.

This Federal Register Notice provides an opportunity to comment on the information collection for this study titled HUDRD CDBG Disaster Recovery Outcomes of Renter Households. The information collection is designed to support the study of disaster outcomes on rental housing, including the impacts to housing markets and renters; efforts that have been implemented by federal, state, and local governments to mitigate losses to affordable rental housing stock after disasters; and how CDBG-DR requirements impact post-disaster efforts to address rehabilitation, reconstruction, replacement, and new construction of rental housing for low-and- moderate income households. The study includes interviews and focus groups in three study communities in jurisdictions that have received CDBG-DR funding.

Respondents: CDBG-DR grantee representatives and administrators; elected and appointed government officials in CDBG-DR grantee jurisdictions and municipalities; representatives from Community Development Financial Institutions (CDFI) in CDBG-DR grantee jurisdictions; representatives from Public Housing Agencies (PHA) in CDBG-DR grantee jurisdictions; landlords and developers in CDBG-DR grantee jurisdictions; representatives from housing and tenant advocacy organizations; and renters living in CDBG-DR grantee jurisdictions.

Estimated Number of Respondents: This information collection will affect approximately 190 respondents. This includes: (1) up to 20 individual qualitative interviews in each of three study communities with CDBG-DR grantee representatives and administrators, elected and appointed officials, CDFI representatives, and PHA representatives; (2) up to two focus groups with up to 10 individuals per focus group with landlords and developers in each of three study communities; (3) up to two focus groups with up to 10 individuals per focus group with renters in each of three study communities; (4) and up to 10 qualitative interviews with HUD staff and other national professionals.

Estimated Time per Response: The qualitative interviews are expected to take one hour per interview. The focus groups are expected to take 1.5 hours per focus group.

Frequency of Response: One time for all interviews and focus groups.

Estimated Total Annual Burden Hours: 250 hours for all interviews and focus groups.

Estimated Total Annual Cost: $8,335.20 for all qualitative interviews and focus groups. To arrive at the dollar cost of the estimated response burden, we have used estimates from the U.S. Bureau of Labor Statistics on average hourly earnings in January 2023. For CDBG-DR administrators, HUD staff, and elected and appointed officials, we use the overall occupational estimate for federal, state, and local government employees ($30.85). For PHA staff and property owner staff, we use the estimate for professional and business services ($39.64). For representatives from CDFIs, private developers, private landlords, advocacy organizations, renters, and other private sector professionals, we use the estimate for all private sector employees ($33.03).

Of the up to 60 qualitative interviews planned in the study communities described in the Estimated Number of Respondents section, we assume an even distribution of subcategory targets; of the 10 qualitative interviews with HUD staff and other national professionals, we assume up to five from the Federal, state, and local government BLS category and up to five from the Private sector employees BLS category.

Information collection | Number of respondents | Frequency of response | Responses per annum | Burden hour per response | Annual burden hours | Hourly cost per response | Cost
Interviews—Federal, state, and local government | 25 | 1 | 1 | 1 | 25 | $30.85 | $771.25
Interviews—Professionals and business services | 20 | 1 | 1 | 1 | 20 | 39.64 | 792.80
Interviews—Private sector employees | 25 | 1 | 1 | 1 | 25 | 33.03 | 825.75
Focus groups—Private sector employees | 120 | 1 | 1 | 1.5 | 180 | 33.03 | 5,945.40
Total | 190 |  |  |  | 250 |  | 8,335.20

Respondent's Obligation: Participation is voluntary.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd Richardson,
General Deputy Assistant Secretary for Policy, Development and Research.

[FR Doc. 2023-14614 Filed 7-10-23; 8:45 am]

BILLING CODE 4210-67-P